DEPARTMENT OF COMMERCE

National Oceanic and Atmospheric Administration

[I.D. 100306A]

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will convene its Law Enforcement Advisory Panel (LEAP).

DATES: The meeting will be held on Tuesday, October 24, 2006, from 1 p.m. to 5 p.m.

ADDRESSES: The meeting will be held at the Royal Sonesta, 300 Bourbon St., New Orleans, LA 70130; telephone: (504) 586-0300.

Council address: Gulf of Mexico Fishery Management Council, 2203 North Lois Avenue, Suite 1100, Tampa, FL 33607.

FOR FURTHER INFORMATION CONTACT: Dr. Richard Leard, Deputy Executive Director, Gulf of Mexico Fishery Management Council; telephone: (813) 348-1630.

SUPPLEMENTARY INFORMATION: The Council will convene the Law Enforcement Advisory Panel (LEAP) to review a Draft Joint Amendment 27 to the Reef Fish Fishery Management Plan (FMP)/Amendment 14 to the Shrimp FMP. This amendment contains alternatives to regulate the harvest and bycatch of red snapper by both the directed commercial and recreational fisheries and the shrimp fishery in the Gulf of Mexico. The need for this amendment arose from the Southeast Data, Assessment and Review (SEDAR) process through which a recent stock assessment showed that the red snapper stock in the Gulf was overfished and overfishing was continuing.

In addition, the LEAP will review progress and possible actions with regard to an amendment to potentially allow offshore aquaculture and a reef fish amendment to address individual fishing quotas (IFQs) for grouper and possibly other reef fish species. Finally, the LEAP will review the status of various FMP amendments and other regulatory actions and approve the Operations Plan for 2007.

The LEAP consists of principal law enforcement officers in each of the Gulf States, as well as the NMFS, U.S. Fish and Wildlife Service (FWS), the U.S. Coast Guard, and the National Oceanic and Atmospheric Administration's (NOAA) General Counsel. A copy of the agenda and related materials can be obtained by calling the Council office at (813) 348-1630.

Although other non-emergency issues not on the agendas may come before the LEAP for discussion, in accordance with the Magnuson-Stevens Fishery Conservation and Management Act (Magnuson-Stevens Act), those issues may not be the subject of formal action during this meeting. Actions of the LEAP will be restricted to those issues specifically identified in the agendas and any issues arising after publication of this notice that require emergency action under Section 305(c) of the Magnuson-Stevens Act, provided the public has been notified of the Council's intent to take action to address the emergency.

Special Accommodations

This meeting is physically accessible to people with disabilities. Requests for sign language interpretation or other auxiliary aids should be directed to Tina Trezza at the Council (see ADDRESSES) 5 working days prior to the meeting.

Dated: October 3, 2006.
Tracey L. Thompson,
Acting Director, Office of Sustainable Fisheries, National Marine Fisheries Service.

[FR Doc. E6-16594 Filed 10-5-06; 8:45 am]

BILLING CODE 3510-22-S